NATIONAL AERONAUTICS AND SPACE ADMINISTRATION

[Notice 04-121]

NASA Space Science Advisory Committee, Astronomical Search for Origins and Planetary Systems Subcommittee; Meeting

AGENCY: National Aeronautics and Space Administration (NASA).

ACTION: Notice of meeting.

SUMMARY: The National Aeronautics and Space Administration announces a meeting of the NASA Space Science Advisory Committee (SScAC), Astronomical Search for Origins and Planetary Systems Subcommittee (OS).

DATES: Monday, November 8, 2004, 8:30 a.m. to 6 p.m., and Tuesday, November 9, 2004, 8 a.m. to 6 p.m.

ADDRESSES: Inn and Conference Center, University of Maryland, 3501 University Boulevard East, Adelphi, Maryland 20783.

FOR FURTHER INFORMATION CONTACT: Dr. Eric P. Smith, Science Mission Directorate, National Aeronautics and Space Administration, Washington, DC 20546, (202) 358-2439, eric.p.smith@nasa.gov.

SUPPLEMENTARY INFORMATION: The meeting will be open to the public up to the seating capacity of the room. The agenda for the meeting is as follows:

• Universe Division News/Update.

• NASA Roadmapping Progress.

• James Webb Space Telescope Update.

• Deep Space Network Future Plans.

• Astronomy and Physics Working Group.

• Terrestrial Planet Finder Update.

It is imperative that the meeting be held on these dates to accommodate the scheduling priorities of the key participants. Visitors will be requested to sign a visitor's register.

P. Diane Rausch,
Advisory Committee Management Officer, National Aeronautics and Space Administration.

[FR Doc. 04-24587 Filed 11-3-04; 8:45 am]

BILLING CODE 7510-13-P